FEDERAL LABOR RELATIONS AUTHORITY

Membership of the Federal Labor Relations Authority's Senior Executive Service Performance Review Board

AGENCY: Federal Labor Relations Authority.

ACTION: Notice.

SUMMARY: Notice is hereby given of the members of the Performance Review Board.

DATES: July 26, 2007.

FOR FURTHER INFORMATION CONTACT: Jill M. Crumpacker, Executive Director; Federal Labor Relations Authority (FLRA); 1400 K Street, NW., Washington, DC 20424-0001; (202) 218-7945.

SUPPLEMENTARY INFORMATION: Section 4314(c)(1) through (5) of title 5, U.S.C., requires that each agency, in accordance with the regulations prescribed by the Office of Personnel Management, establish one or more Performance Review Boards. The Board(s) shall review and evaluate the initial appraisal of a senior executive.

The following persons will serve on the FLRA's FY 2007 Performance Review Board: Debra A. Carr, Associate Deputy Staff Director, U.S. Commission on Civil Rights; Jill M. Crumpacker, Executive Director, Federal Labor Relations Authority; Peggy R. Mastroianni, Associate Legal Counsel, Equal Employment Opportunity Commission.

Authority: 5 U.S.C. 4134(c)(4).

Dated: July 19, 2007.
Jill M. Crumpacker,
Executive Director.

[FR Doc. E7-14443 Filed 7-25-07; 8:45 am]

BILLING CODE 6727-01-P